NUCLEAR REGULATORY COMMISSION

Advisory Committee on Nuclear Waste, Subcommittee Meeting on Planning and Procedures; Notice of Meeting

The ACNW Subcommittee on Planning and Procedures will hold a meeting on September 24, 2004, at the Suncoast Hotel (Fairway 2 Room), 9090 Alta Drive, Las Vegas, Nevada.

The entire meeting will be closed to public attendance pursuant to 5 U.S.C. 552b(c) (2) and (6) to discuss organizational and personnel matters that relate solely to internal personnel rules and practices of ACNW, and information the release of which would constitute a clearly unwarranted invasion of personal privacy.

The Subcommittee will continue to discuss self-assessment of ACNW performance in CY 2004, potential operational areas for improved effectiveness, and other activities related to the conduct of ACNW business.

Further information regarding this meeting can be obtained by contacting Mr. Howard J. Larson, Assistant Director for ACNW/Team Leader (telephone 301/415-6805), between 7:30 a.m. and 4 p.m. (e.t.).

Dated: September 9, 2004.
Michael R. Snodderly,
Acting Associate Director for Technical Support, ACRS/ACNW.

[FR Doc. 04-20858 Filed 9-15-04; 8:45 am]

BILLING CODE 7590-01-P